FEDERAL COMMUNICATIONS COMMISSION

47 CFR Part 73

[DA 05-652; MB Docket No. 05-97, RM-11186; MB Docket No. 05-98, RM-11187]

Radio Broadcasting Services; Milano, TX and Wheatland, WY

AGENCY: Federal Communications Commission.

ACTION: Proposed rule.

SUMMARY: The Audio Division requests comment on a petition filed by Charles Crawford proposing the allotment of Channel 274A at Milano, Texas, as its first local aural transmission service. Channel 274A can be allotted to Milano in compliance with the Commission's minimum distance separation requirements with a site restriction of 9.2 kilometers (5.7 miles) southwest to avoid a short-spacing to the license site of FM Station KBRQ, Channel 273C1, Hillsboro, Texas. The reference coordinates for Channel 274A at Milano are 30-38-30 North Latitude and 96-55-00 West Longitude. The Audio Division requests comments on a petition filed by Mitchell Beranek proposing the allotment of Channel 298A at Wheatland, Wyoming, as the community's fourth FM commercial broadcast service. Channel 298A can be allotted to Wheatland in compliance with the Commission's minimum distance separation requirements with a site restriction of 2.3 kilometers (1.4 miles) north of the community. The reference coordinates for Channel 298A at Wheatland are 42-04-28 North Latitude and 104-56-51 West Longitude.

DATES: Comments must be filed on or before May 5, 2005, and reply comments on or before May 20, 2005

ADDRESSES: Federal Communications Commission, 445 Twelfth Street, SW., Washington, DC 20554. In addition to filing comments with the FCC, interested parties should serve the petitioner, his counsel, or consultant, as follows: Charles Crawford, 4553 Bordeaux Avenue, Dallas, Texas 75205 and Mitchell Beranek, 7607 Schrader Lane, Cheyenne, Wyoming 82009.

FOR FURTHER INFORMATION CONTACT: Rolanda F. Smith, Media Bureau, (202) 418-2180.

SUPPLEMENTARY INFORMATION: This is a synopsis of the Commission's Notice of Proposed Rule Making, MB Docket Nos. 05-97, 05-98, adopted March 9, 2005 and released March 14, 2005. The full text of this Commission decision is available for inspection and copying during regular business hours at the FCC's Reference Information Center, Portals II, 445 Twelfth Street, SW., Room CY-A257, Washington, DC 20554. The complete text of this decision may also be purchased from the Commission's duplicating contractor, Best Copy and Printing, Inc., 445 12th Street, SW., Room CY-B402, Washington, DC, 20054, telephone 1-800-378-3160 or http://www.BCPIWEB.com. This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4).

Provisions of the Regulatory Flexibility Act of l980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contact.

For information regarding proper filing procedures for comments, see 47 CFR 1.415 and 1.420.

List of Subjects in 47 CFR Part 73

Radio, Radio broadcasting.

For the reasons discussed in the preamble, the Federal Communications Commission proposes to amend 47 CFR Part 73 as follows:

PART 73—RADIO BROADCAST SERVICES

1. The authority citation for part 73 continues to read as follows:

Authority: 47 U.S.C. 154, 303, 334 and 336.

§ 73.202 [Amended]

2. Section 73.202(b), the Table of FM Allotments under Texas, is amended by adding Milano, Channel 274A.

3. Section 73.202(b), the Table of FM Allotments under Wyoming, is amended by adding Channel 298A at Wheatland.

Federal Communications Commission.
John A. Karousos,
Assistant Chief, Audio Division, Media Bureau.

[FR Doc. 05-5850 Filed 3-23-05; 8:45 am]

BILLING CODE 6712-01-P